ENVIRONMENTAL PROTECTION AGENCY

40 CFR Parts 22, 51, 52, 61, 68, 80, 81, 124, 147, 171, 239, 259, 300, and 770

[FRL-9958-87-OP]

Delay of Effective Date for 30 Final Regulations Published by the Environmental Protection Agency Between October 28, 2016 and January 17, 2017

AGENCY: Environmental Protection Agency (EPA).

ACTION: Final rule; delay of effective dates.

SUMMARY: In accordance with the Presidential directive as expressed in the memorandum of January 20, 2017, from the Assistant to the President and Chief of Staff, entitled “Regulatory Freeze Pending Review,” this action temporarily delays until March 21, 2017, the effective date of the regulations listed in the table below. EPA identified 30 regulations that meet those criteria.

DATES: This regulation is effective January 26, 2017. The effective date of each regulation listed in the table below is delayed to a new effective date of March 21, 2017.

FOR FURTHER INFORMATION CONTACT: Sarah Rees, Director, Office of Regulatory Policy and Management, Office of Policy, Mail code 1804, U.S. Environmental Protection Agency, 1200 Pennsylvania Ave NW., Washington, DC 20460; (202) 564-1986; rees.sarah@epa.gov.

SUPPLEMENTARY INFORMATION: EPA bases this action on the Presidential directive as expressed in the memorandum of January 20, 2017, from the Assistant to the President and Chief of Staff, entitled “Regulatory Freeze Pending Review.” That memorandum directed the heads of Executive Departments and Agencies to temporarily postpone for sixty days from the date of the memorandum the effective dates of all regulations that had been published in the Federal Register but had not yet taken effect. The memorandum also noted certain exceptions that do not apply here. EPA identified 30 regulations that meet those criteria. Those regulations are listed in the table below. The new effective date for all 30 regulations is March 21, 2017.

The Agency's implementation of this action without opportunity for public comment is based on the good cause exceptions in 5 U.S.C. 553(b)(B) and 553(d)(3), in that seeking public comment is impracticable, unnecessary and contrary to the public interest. The temporary delay in effective dates until March 21, 2017, is necessary to give Agency officials the opportunity for further review and consideration of new regulations, consistent with the memorandum of the Assistant to the President and Chief of Staff, dated January 20, 2017. Given the imminence of these effective dates, seeking prior public comment on this temporary delay would have been impractical, as well as contrary to the public interest in the orderly promulgation and implementation of regulations. In addition, to the extent any regulation below is a procedural rule, it is exempt from notice and comment under 5 U.S.C. 553(b)(A).

Some of the regulations listed below would not have taken effect until late February or March. For those regulations, the length of today's delay is necessarily shorter than the delay established for regulations that would have taken effect in January or early February. The good cause exception applies here as well, because soliciting comment would be contrary to the public interest. First, by announcing today that all eligible regulations would be delayed until a single fixed date (March 21, 2017), the Agency provides immediate notice of its intention to further review and consider those regulations in addition to the others that would have taken effect sooner. This allows the later-published regulations to be considered more easily in context of the earlier-published regulations. Second, by focusing its attention on the substance of those later regulations rather than soliciting comment on a decision to delay their effective date until March 21, 2017, the Agency can minimize or obviate the need for further temporary delays beyond March 21. Third, as a practical matter, the new effective date for these regulations would extend by only a few weeks their original effective dates.

For the foregoing reasons, the good cause exceptions in 5 U.S.C. 553(b)(B) and 553(d)(3) also apply to EPA's decision to make today's action effectively immediately.

Federal Register citation | Title | Publication date | Original effective date | New effective date
81 FR 74927 | State of Kentucky Section 1425 Underground Injection Control (UIC) Program Primacy Approval | 10/28/16 | 1/26/2017 | 3/21/2017
81 FR 95047 | Approval and Promulgation of Implementation Plans; New York Prevention of Significant Deterioration of Air Quality and Nonattainment New Source Review; Infrastructure State Implementation Plan Requirements | 12/27/16 | 1/26/2017 | 3/21/2017
81 FR 95041 | Air Plan Approval; KY; RACM Determination for the KY Portion of the Louisville Area 1997 Annual PM2.5 | 12/27/16 | 1/26/2017 | 3/21/2017
81 FR 95043 | Air Plan Approval; Wisconsin; Infrastructure SIP Requirements for the 2012 PM2.5 NAAQS | 12/27/16 | 1/26/2017 | 3/21/2017
81 FR 95051 | Approval and Promulgation of Implementation Plans and Designation of Areas for Air Quality Planning Purposes; Louisiana; Redesignation of Baton Rouge 2008 8-Hour Ozone Nonattainment Area to Attainment | 12/27/16 | 1/26/2017 | 3/21/2017
81 FR 95480 | State of Kentucky Underground Injection Control (UIC) Class II Program; Primacy Approval | 12/28/16 | 1/27/2017 | 3/21/2017
81 FR 95475 | Air Plan Approval; Illinois; Volatile Organic Compounds Definition | 12/28/16 | 1/27/2017 | 3/21/2017
81 FR 95473 | Approval of California Air Plan Revisions, Great Basin Unified Air Pollution Control District | 12/28/16 | 1/27/2017 | 3/21/2017
81 FR 95472 | Approval of California Air Plan Revisions, South Coast Air Quality Management District | 12/28/16 | 1/27/2017 | 3/21/2017
82 FR 729 | Partial Approval and Partial Disapproval of Attainment Plan for the Idaho Portion of the Logan, Utah/Idaho PM2.5 Nonattainment Area | 1/4/17 | 2/3/2017 | 3/21/2017
82 FR 2760 | Addition of a Subsurface Intrusion Component to the Hazard Ranking System | 1/9/17 | 2/8/2017 | 3/21/2017
82 FR 2237 | Approval and Promulgation of Implementation Plans; Rhode Island; Clean Air Act Infrastructure State and Federal Implementation Plans | 1/9/17 | 2/8/2017 | 3/21/2017
81 FR 89746 | Renewable Fuel Standard Program: Standards for 2017 and Biomass-Based Diesel Volume for 2018 | 12/12/16 | 2/10/2017 | 3/21/2017
81 FR 89674 | Formaldehyde Emission Standards for Composite Wood Products | 12/12/16 | 2/10/2017 | 3/21/2017
82 FR 3171 | Approval and Promulgation of Implementation Plans; Texas; Control of Air Pollution from Visible Emissions and Particulate Matter | 1/11/17 | 2/10/2017 | 3/21/2017
81 FR 89868 | Determination of Attainment of the 2012 Annual Fine Particulate Matter Standard; Pennsylvania; Delaware County Nonattainment Area | 12/13/16 | 2/13/2017 | 3/21/2017
82 FR 3639 | Air Plan Approval; TN Infrastructure Requirements for the 2010 NO2 NAAQS | 1/12/17 | 2/13/2017 | 3/21/2017
82 FR 3637 | Approval and Promulgation of Implementation Plans; Alabama; Infrastructure Requirements for the 2010 Sulfur Dioxide National Ambient Air Quality Standard | 1/12/17 | 2/13/2017 | 3/21/2017
82 FR 5182 | Revisions to the Guideline on Air Quality Models: Enhancements to the AERMOD Dispersion Modeling System and Incorporation of Approaches to Address Ozone and Fine Particulate Matter | 1/17/17 | 2/16/2017 | 3/21/2017
81 FR 91839 | Air Plan Approval; Michigan; Part 9 Miscellaneous Rules | 12/19/16 | 2/17/2017 | 3/21/2017
81 FR 94262 | National Oil and Hazardous Substances Pollution Contingency Plan; National Priorities List: Partial Deletion of the North Penn Area 6 Superfund Site | 12/23/16 | 2/21/2017 | 3/21/2017
81 FR 93624 | Determination of Attainment of the 2008 Ozone National Ambient Air Quality Standards; Mariposa County, California | 12/21/16 | 2/21/2017 | 3/21/2017
81 FR 85438 | Adequacy of Washington Municipal Solid Waste Landfill Permit Program—Direct Final Rule | 11/28/16 | 2/27/2017 | 3/21/2017
81 FR 95477 | Approval and Promulgation of Implementation Plans; Louisiana; State Boards | 12/28/16 | 2/27/2017 | 3/21/2017
82 FR 952 | Pesticides; Certification of Pesticide Applicators | 1/4/17 | 3/6/2017 | 3/21/2017
82 FR 1206 | Air Plan Approval; Georgia: Procedures for Testing and Monitoring Sources of Air Pollutants | 1/5/17 | 3/6/2017 | 3/21/2017
82 FR 2230 | Consolidated Rules of Practice Governing the Administrative Assessment of Civil Penalties, Issuance of Compliance or Corrective Action Orders, and the Revocation/Termination or Suspension of Permits; Procedures for Decisionmaking | 1/9/17 | 3/10/2017 | 3/21/2017
82 FR 2239 | Approval of Arizona Air Plan Revisions; Ajo and Morenci, Arizona; Second 10-Year Sulfur Dioxide Maintenance Plans and Technical Correction | 1/9/17 | 3/10/2017 | 3/21/2017
82 FR 4594 | Accidental Release Prevention Requirements: Risk Management Programs Under the Clean Air Act | 1/13/17 | 3/14/2017 | 3/21/2017
82 FR 5142 | Revisions to National Emission Standards for Radon Emissions from Operating Mill Tailings | 1/17/17 | 3/20/2017 | 3/21/2017

Where appropriate, the Agency may consider delaying the effective dates of the above-referenced regulations beyond March 21, 2017. If the Agency were to do so, consistent with the memorandum of the Assistant to the President and Chief of Staff, the Agency would propose any later effective date for public comment.

Dated: January 23, 2017.
Catherine McCabe,
Acting Administrator.

[FR Doc. 2017-01822 Filed 1-24-17; 11:15 am]

BILLING CODE 6560-50-P